DEPARTMENT OF THE INTERIOR

National Park Service

[N6423; NPS-WASO-NAGPRA-NPS0040829; PPWOCRADN0-PCU00RP14.R50000]

Notice of Inventory Completion: U.S. Department of the Interior, Bureau of Land Management, Oregon/Washington State Office, Prineville District Office, Prineville, OR

AGENCY: National Park Service, Interior.

ACTION: Notice.

SUMMARY: In accordance with the Native American Graves Protection and Repatriation Act (NAGPRA), the U.S. Department of the Interior, Bureau of Land Management, Oregon/Washington State Office, Prineville District Office (BLM) has completed an inventory of human remains and has determined that there is a cultural affiliation between the human remains and Indian Tribes or Native Hawaiian organizations in this notice.

DATES: Repatriation of the human remains in this notice may occur on or after September 19, 2025.

ADDRESSES: Send written requests for repatriation of the human remains in this notice to Amanda S. Roberts, Prineville District Manager, 3050 NE 3rd Street, Prineville, OR 97754, email asroberts@blm.gov.

SUPPLEMENTARY INFORMATION: This notice is published as part of the National Park Service's administrative responsibilities under NAGPRA. The determinations in this notice are the sole responsibility of the BLM, and additional information on the determinations in this notice, including the results of consultation, can be found in its inventory or related records. The National Park Service is not responsible for the determinations in this notice.

Abstract of Information Available

Human remains representing at least one individual have been identified. No associated funerary objects are present. The remains consist of a fragmentary portion of the frontal cranium and a cervical atlas (i.e., C1 vertebra). These remains are currently being held by Prineville District BLM. The remains were removed from their burial location on BLM managed lands in 1987 from the area of Little Ferry Canyon, Sherman County, Oregon. The exact location of the burial is unknown. The approximate legal location is Township 02 South, Range 18 East, Section 26. There are no known hazardous substances used on the remains.

Cultural Affiliation

Based on the information available and the results of consultation, cultural affiliation is reasonably identified by the geographical location or acquisition history of the human remains described in this notice.

Determinations

The BLM Prineville District has determined that:

• The human remains described in this notice represent the physical remains of one individual of Native American ancestry.

• There is a connection between the human remains described in this notice and the Confederated Tribes of the Warm Springs Reservation of Oregon.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 19, 2025. If competing requests for repatriation are received, the BLM Prineville District must determine the most appropriate requestor prior to repatriation. Requests for joint repatriation of the human remains are considered a single request and not competing requests. The BLM Prineville District is responsible for sending a copy of this notice to the Indian Tribes and Native Hawaiian organizations identified in this notice.

Authority: Native American Graves Protection and Repatriation Act, 25 U.S.C. 3003, and the implementing regulations, 43 CFR 10.10.

Dated: August 5, 2025.
Melanie O'Brien,
Manager, National NAGPRA Program.

[FR Doc. 2025-15848 Filed 8-19-25; 8:45 am]

BILLING CODE 4312-52-P